DEPARTMENT OF TRANSPORTATION

Federal Aviation Administration

14 CFR Part 39

[Docket No. FAA-2011-1000; Directorate Identifier 2011-NM-048-AD; Amendment 39-16828; AD 2011-21-05]

RIN 2120-AA64

Airworthiness Directives; Aviointeriors S.p.A. Passenger Seat 12M Series, Installed on But Not Limited to ATR Model ATR42 Airplanes and Model ATR72 Airplanes

AGENCY: Federal Aviation Administration (FAA), Department of Transportation (DOT).

ACTION: Final rule; request for comments.

SUMMARY: We are adopting a new airworthiness directive (AD) for the products listed above. This AD results from mandatory continuing airworthiness information (MCAI) originated by an aviation authority of another country to identify and correct an unsafe condition on an aviation product. The MCAI describes the unsafe condition as:

Failures of the recline actuator metal fitting have been reported on seat backrests of in-service aircraft. * * *

* * * * *

Actions required by this AD are intended to prevent further failures of the seat backrests which could result in injury to passengers or crew members during an emergency landing.

This AD requires actions that are intended to address the unsafe condition described in the MCAI.

DATES: This AD becomes effective October 27, 2011.

The Director of the Federal Register approved the incorporation by reference of a certain publication listed in the AD as of October 27, 2011.

We must receive comments on this AD by November 28, 2011.

ADDRESSES: You may send comments by any of the following methods:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC, between 9 a.m. and 5 p.m., Monday through Friday, except Federal holidays.

Examining the AD Docket

You may examine the AD docket on the Internet at http://www.regulations.gov; or in person at the Docket Operations office between 9 a.m. and 5 p.m., Monday through Friday, except Federal holidays. The AD docket contains this AD, the regulatory evaluation, any comments received, and other information. The street address for the Docket Operations office (telephone (800) 647-5527) is in the ADDRESSES section. Comments will be available in the AD docket shortly after receipt.

FOR FURTHER INFORMATION CONTACT: Jeffrey Lee, Aerospace Engineer, Boston Aircraft Certification Office, FAA, Engine & Propeller Directorate, 12 New England Executive Park, Burlington, Massachusetts 01803; telephone (781) 238-7161; fax (781) 238-7170.

SUPPLEMENTARY INFORMATION:

Discussion

The European Aviation Safety Agency (EASA), which is the Technical Agent for the Member States of the European Community, has issued EASA Airworthiness Directive 2008-0135, dated July 16, 2008 (referred to after this as “the MCAI”), to correct an unsafe condition for the specified products. The MCAI states:

Failures of the recline actuator metal fitting have been reported on seat backrests of in-service aircraft. EASA AD 2006-0350, which is superseded by this [EASA] AD, was issued to initially mandate a one-time inspection of the applicable backrests, replace all fittings that have tool marks and re-identify the backrest seat P/N (part number). Since the issuance of the [existing EASA] AD, cycle testing performed by Aviointeriors identified a life limitation also for backrests that do not have tool marks.

Consequently the present [EASA] AD mandates the replacement of those backrests before reaching the threshold specified in the compliance paragraph of this [EASA] AD.

Actions required by this [EASA] AD are intended to prevent further failures of the seat backrests which could result in injury to passengers or crew members during an emergency landing.

You may obtain further information by examining the MCAI in the AD docket.

Relevant Service Information

Aviointeriors has issued Vendor Service Bulletin 12M/F68-06, Revision 1, dated October 29, 2009. The actions described in this service information are intended to correct the unsafe condition identified in the MCAI.

FAA's Determination and Requirements of This AD

This product has been approved by the aviation authority of another country, and is approved for operation in the United States. Pursuant to our bilateral agreement with the State of Design Authority, we have been notified of the unsafe condition described in the MCAI and service information referenced above. We are issuing this AD because we evaluated all pertinent information and determined the unsafe condition exists and is likely to exist or develop on other products of the same type design.

There are no airplanes equipped with the affected seats currently registered in the United States. However, this rule is necessary to ensure that the described unsafe condition is addressed if any of these seats are installed on airplanes identified in the U.S. Register in the future.

Differences Between the AD and the MCAI or Service Information

We have reviewed the MCAI and related service information and, in general, agree with their substance. But we might have found it necessary to use different words from those in the MCAI to ensure the AD is clear for U.S. operators and is enforceable. In making these changes, we do not intend to differ substantively from the information provided in the MCAI and related service information.

We might also have required different actions in this AD from those in the MCAI in order to follow FAA policies. Any such differences are highlighted in a NOTE within the AD.

FAA's Determination of the Effective Date

Since there are currently no domestic operators of this product, notice and opportunity for public comment before issuing this AD are unnecessary.

Comments Invited

This AD is a final rule that involves requirements affecting flight safety, and we did not precede it by notice and opportunity for public comment. We invite you to send any written relevant data, views, or arguments about this AD. Send your comments to an address listed under the ADDRESSES section. Include “Docket No. FAA-2011-1000; Directorate Identifier 2011-NM-048-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2011-21-05 Aviointeriors S.p.A.: Amendment 39-16828. Docket No. FAA-2011-1000; Directorate Identifier 2011-NM-048-AD.

Effective Date

(a) This airworthiness directive (AD) becomes effective October 27, 2011.

Affected ADs

(b) None.

Applicability

(c) This AD applies to Aviointeriors S.p.A. passenger seats 12M()()-()()()()()(), all part numbers (P/Ns) equipped with backrest P/N 313033000000 or 313033100000; as identified in Section 1.A. of Aviointeriors Vendor Service Bulletin 12M/F68-06, Revision 1, dated October 29, 2009; and that are installed on, but not limited to ATR Model ATR42-200, -300, -320, and -500 airplanes and Model ATR72-101, -201, -102, -202, -211, -212, and -212A airplanes, certificated in any category.

Note 1: This AD applies to certain Aviointeriors passenger seats as installed on any airplane, regardless of whether the airplane has been otherwise modified, altered, or repaired in the area subject to the requirements of this AD. For airplanes that have been modified, altered, or repaired so that the performance of the requirements of this AD is affected, the owner/operator must request approval for an alternative method of compliance according to paragraph (k) of this AD. The request should include an assessment of the effect of the modification, alteration, or repair on the unsafe condition addressed by this AD; and, if the unsafe condition has not been eliminated, the request should include specific proposed actions to address it.

Subject

(d) Air Transport Association (ATA) of America Code 25: Equipment/Furnishings.

Reason

(e) The mandatory continuing airworthiness information (MCAI) states:

Failures of the recline actuator metal fitting have been reported on seat backrests of in-service aircraft. * * *

* * * * *

Actions required by this AD are intended to prevent further failures of the seat backrests which could result in injury to passengers or crew members during an emergency landing.

Compliance

(f) You are responsible for having the actions required by this AD performed within the compliance times specified, unless the actions have already been done.

Replacement

(g) At the later of the compliance times specified in paragraphs (g)(1) and (g)(2) of this AD, replace backrests having P/N 313033000000 and 313033100000, in accordance with the instructions given in Aviointeriors Vendor Service Bulletin 12M/F68-06, Revision 1, dated October 29, 2009, except as provided by paragraph (i) of this AD.

(1) Before the accumulation of 13,000 total flight cycles on the seat since new.

(2) Within 500 flight cycles or 6 months after the effective date of this AD, whichever occurs first.

Parts Installation

(h) As of the effective date of this AD, no person shall install Aviointeriors passenger seats P/N 12M()()-()()()()()() equipped with backrests having P/N 313033000000 or 313033100000 (being either unmarked or marked with “0” as indicated in Section 3 of Aviointeriors Vendor Service Bulletin 12M/F68-06, Revision 1, dated October 29, 2009) on any airplane.

Extended Replacement Compliance Time for Certain Airplanes

(i) For airplanes on which the replacement required by paragraph (g) of this AD cannot be done within the required compliance time specified in paragraph (g) of this AD: The airplane may be dispatched with the affected seat installed provided the actions in paragraph (i)(1) and (i)(2) of this AD are done.

(1) The provisions specified in paragraphs (i)(1)(i), (i)(1)(ii), and (i)(1)(iii) of this AD are complied with.

(i) Seat is placarded as “Do not occupy” and measures are taken to be sure that the affected seat remains unoccupied during the flight duration.

(ii) Affected seat does not block any emergency exit.

(iii) Affected seat does not restrict any passenger to get access to the main aisle.

(2) Within 12 months after the effective date of this AD, the backrest is replaced in accordance with the instructions given in Aviointeriors Vendor Service Bulletin 12M/F68-06, Revision 1, dated October 29, 2009.

Credit for Actions Accomplished in Accordance With Previous Service Information

(j) Actions accomplished before the effective date of this AD in accordance with Aviointeriors Vendor Service Bulletin 12M/F68-01, Revision 1, dated October 2, 2006; or Aviointeriors Vendor Service Bulletin 12M/F68-06, dated June 17, 2008; are considered acceptable for compliance with the corresponding actions specified in this AD.

FAA AD Differences

Note 2: This AD differs from the MCAI and/or service information as follows: No differences.

Other FAA AD Provisions

(k) The following provisions also apply to this AD:

(1) Alternative Methods of Compliance (AMOCs): The Manager, Boston Aircraft Certification Office, FAA, has the authority to approve AMOCs for this AD, if requested using the procedures found in 14 CFR 39.19. In accordance with 14 CFR 39.19, send your request to your principal inspector or local Flight Standards District Office, as appropriate. If sending information directly to the ACO, send it to ATTN: Jeffrey Lee, Aerospace Engineer, Boston Aircraft Certification Office, FAA, Engine & Propeller Directorate, 12 New England Executive Park, Burlington, Massachusetts 01803; telephone (781) 238-7161; fax (781) 238-7170. Before using any approved AMOC, notify your appropriate principal inspector, or lacking a principal inspector, the manager of the local flight standards district office/certificate holding district office. The AMOC approval letter must specifically reference this AD.

(2) Airworthy Product: For any requirement in this AD to obtain corrective actions from a manufacturer or other source, use these actions if they are FAA-approved. Corrective actions are considered FAA-approved if they are approved by the State of Design Authority (or their delegated agent). You are required to assure the product is airworthy before it is returned to service.

Related Information

(l) Refer to MCAI European Aviation Safety Agency Airworthiness Directive 2008-0135, dated July 16, 2008; and Aviointeriors Vendor Service Bulletin 12M/F68-06, Revision 1, dated October 29, 2009; for related information.

Material Incorporated by Reference

(m) You must use Aviointeriors Vendor Service Bulletin 12M/F68-06, Revision 1, dated October 29, 2009, to do the actions required by this AD, unless the AD specifies otherwise. Pages 1, 2, and 10 of this document are identified as Revision 1; the remaining pages are identified as Revision “new.”

(1) The Director of the Federal Register approved the incorporation by reference of this service information under 5 U.S.C. 552(a) and 1 CFR part 51.

(2) For service information identified in this AD, contact Aviointeriors S.p.A., Engineering Product Support Division, Via Appia KM 66,400—04013 Tor Tre Ponti, Italy; telephone 0039-0773-689330 or 0039-0773-689291; fax 0039-0773-631546; e-mail avio@aviointeriors.it; Internet http://www.aviointeriors.it.

(3) You may review copies of the service information at the FAA, Transport Airplane Directorate, 1601 Lind Avenue, SW., Renton, Washington. For information on the availability of this material at the FAA, call 425-227-1221.

(4) You may also review copies of the service information that is incorporated by reference at the National Archives and Records Administration (NARA). For information on the availability of this material at NARA, call 202-741-6030, or go to: http://www.archives.gov/federal_register/code_of_federal_regulations/ibr_locations.html.

Issued in Renton, Washington, on September 23, 2011.
Ali Bahrami,
Manager, Transport Airplane Directorate, Aircraft Certification Service.

[FR Doc. 2011-25800 Filed 10-11-11; 8:45 am]

BILLING CODE 4910-13-P